DEPARTMENT OF LABOR

Employment and Training Administration

Workforce Investment Act; Native American Employment and Training Council

AGENCY Employment and Training Administration, Labor.

ACTION: Notice of meeting.

SUMMARY: Pursuant to section 10(a)(2) of the Federal Advisory Committee Act (FACA) (Pub. L. 92-463), as amended, and section 166(h)(4) of the Workforce Investment Act (WIA)[29 U.S.C. 2911(h)(4)], notice is hereby given of the next meeting of the Native American Employment and Training Council as constituted under WIA.

Time and Date: The meeting will begin at 10:30 a.m., Central Daylight Savings Time (CDT), on Wednesday, April 27, 2005, and continue until 12 p.m. (CDT) that day. The period from 3 p.m. to 5 p.m. (CDT) on April 27 will be reserved for participation and presentation by members of the public. The meeting will reconvene at 1 p.m. (CDT) on April 28, 2005, and adjourn at approximately 4:30 p.m. (CDT) on that day.

Place: All sessions will be held at the Hyatt Regency Houston, 1200 Louisiana Street, Houston, Texas.

Status: The meeting will be open to the public. Persons who need special accommodations should contact Ms. Athena Brown on (202) 693-3737 by April 22, 2005.

Matters to be Considered: The formal agenda will focus on the following topics: (1) Status Report of the UI Wage Study, (2) Implementation of 2000 Decennial Census data in the section 166 finding formula(s), (3) Council workgroup reports, (4) status of the Technical Assistance and Training Initiative, (5) Reauthorization of the WIA, (6) Economic Development—A Presentation by a Top-10 American Indian Owned Business.

FOR FURTHER INFORMATION CONTACT: Ms. Athena Brown, Chief, Division of Indian and Native American Programs, Office of National Programs, Employment and Training Administration, U.S. Department of Labor, Room C-4311, 200 Constitution Avenue, NW., Washington, DC 20210.

Telephone: (202) 693-3737 (VOICE) (this is not a toll-free number) or (202) 693-3841.

Signed at Washington, DC, this 6th day of April, 2005.
Emily Stover DeRocco,
Assistant Secretary, Employment and Training Administration.

[FR Doc. 05-7383 Filed 4-12-05; 8:45 am]

BILLING CODE 4510-30-M